FEDERAL COMMUNICATIONS COMMISSION

47 CFR Part 73

Radio Broadcast Services

CFR Correction

In Title 47 of the Code of Federal Regulations, parts 70 to 79, revised as of Oct. 1, 1999, on page 217, second column, § 73.682 is corrected in paragraph (c)(9) by removing in the second line the text following “75 kHz” to the end of the paragraph and also by removing paragraph (1) following (c)(9).

[FR Doc. 00-55504 Filed 2-15-00; 8:45 am]

BILLING CODE 1505-01-D